DEPARTMENT OF THE INTERIOR

Fish and Wildlife Service

[FWS-R8-R-2016-N096]; [FXRS12610800000V2-167-FF08RSRC00]

M&T/Llano Seco Fish Screen Facility Long-Term Protection Project; Notice of Intent for Environmental Impact Statement

AGENCY: Fish and Wildlife Service, Interior.

ACTION: Notice of intent; notice of public scoping meetings; request for comments.

SUMMARY: We, the U.S. Fish and Wildlife Service (Service), in coordination with the California Department of Fish and Wildlife (CDFW), are preparing a joint environmental impact statement/environmental impact report (EIS/EIR) for the proposed M&T/Llano Seco Fish Screen Facility Long-Term Protection Project in Butte County, California. This notice advises the public that we intend to gather information necessary to prepare an EIS pursuant to the National Environmental Policy Act (NEPA). We encourage the public and other agencies to participate in the NEPA scoping process by sending written suggestions and information on the issues and concerns that should be addressed in the draft EIS/EIR, including the range of alternatives, appropriate mitigation measures, and the nature and extent of potential environmental impacts.

DATES: Submitting Comments: To ensure that we have adequate time to evaluate and incorporate your suggestions and other input, we must receive your comments on or before August 12, 2016.

Public Meetings: We will hold two public scoping meetings in the city of Chico, California, on July 27, 2016, to receive written and oral comments from the public (see ADDRESSES).

ADDRESSES: Requesting Information and Submitting Comments: To request further information or submit written comments, please use one of the following methods, and note that your information request or comment is in reference to the M&T/Llano Seco Fish Screen Facility Long-Term Protection Project.

• U.S. Mail: Craig Isola, Deputy Project Leader, Sacramento National Wildlife Refuge Complex, U.S. Fish and Wildlife Service, 752 County Road 99W, Willows, CA 95988.

• Email: craig_isola@fws.gov.

• Fax: Attn: Craig Isola, (530) 934-7814.

Public Meetings: The meetings will be held at 2 p.m. and 6 p.m. at the Chico Masonic Family Center, at 1110 W. East Avenue in Chico. At least one 1 week prior to each meeting, we will announce exact meeting locations and times in local newspapers and on the Internet at http://www.ducks.org/california/california-projects/m-t-llano-seco-fish-screen-project.

FOR FURTHER INFORMATION CONTACT: Craig Isola, Deputy Project Leader (530) 934-2801.

SUPPLEMENTARY INFORMATION:

Background

The M&T/Llano Seco Fish Screen Facility (pumping facilities) provides water from the Sacramento River to agricultural operations on the M&T Chico Ranch and Llano Seco Rancho, and to wetlands and associated habitats owned or managed by the Service, the CDFW, and Llano Seco Rancho. The wetland habitat supports resident and migratory waterfowl, shorebirds, and other wetland-dependent and special status species. Prior to 1997, operation of the unscreened M&T diversion pumps on Big Chico Creek created streamflow reversals that caused entrainment and loss of native fish species during migration periods.

In 1997, as part of an effort to reduce impacts to native salmonids, including special status species within the Sacramento River Basin, the M&T/Llano Seco Pumping and Fish Screen Facility was relocated from Big Chico Creek to the east bank of the Sacramento River, just downstream from the confluence of Big Chico Creek. Previous operation of the five unscreened M&T diversion pumps on Big Chico Creek created streamflow reversals that caused entrainment and subsequent loss of juvenile spring-run Chinook salmon during critical downstream migration periods. Additionally, flow reversals caused difficulty for upstream adult spring-run Chinook salmon migrants in the Sacramento River returning to spawn in Big Chico Creek. As part of the relocation, the M&T Chico Ranch/Llano Seco Rancho agreed to bypass (i.e., not to divert) 40 cubic feet per second of their water rights out of Butte Creek during October 1 through June 30, in order to support Butte Creek fisheries. In exchange for this bypass, the ranches could access an equivalent amount of water from the relocated facility on the Sacramento River. This bypass of water in Butte Creek and the relocation of the pumping plant from Big Chico Creek to the Sacramento River are documented by several signed agreements between M&T and Parrot Investment Company, CDFW, and the Service, including: Memorandum of Understanding for the Exchange of Water between Butte Creek and the Sacramento River (MOU); Agreement for the Relocation of M&T/Parrot Pumping Plant Providing for Bypass of Flows in Butte Creek (the “bypass agreement”); and Agreement between the United States and M&T Chico Ranch, Incorporated and Parrot Investment Company Incorporated, for Exchange of Water From Butte Creek for Water From the Sacramento River (“exchange agreement”). The U.S. Bureau of Reclamation is also a party to the exchange agreement.

Since 1997, unforeseen geomorphic changes in the vicinity of the facility on the Sacramento River have caused sediment deposition (i.e., downstream migration of a gravel bar), posing a significant risk to the continued operation of the pumping facilities and to the operation of City of Chico's Wastewater Treatment Plant outfall, which is downstream of the pumping facilities. To maintain functionality and avoid the consequences associated with the continuing sediment deposition in the vicinity of the pumping facilities, dredging was carried out in 2001 and 2007 just upstream of the pumping facilities. In 2007, a temporary rock toe and tree revetment for bank protection was installed on a 1,520-foot stretch of the west side of the river, across from the pumping facilities, to prevent further river migration to the west and eventual stranding of the pumping facilities. At the time of placement, the rock toe revetment was identified as a temporary impact, and mitigation was developed to address bank swallow and river meander issues. If the revetment is incorporated into the long-term solution, or the long-term solution results in permanent loss of bank swallow habitat, additional mitigation measures above those put in place for the short-term project will be identified and implemented.

To address these issues, the EIS/EIR will present and analyze a range of alternatives that would provide a reliable long-term water supply for agricultural lands and the wildlife refuges while protecting endangered species and their habitats in the Sacramento River.

Proposed Action

The Service and CDFW, along with the M&T Chico Ranch and Llano Seco Rancho, propose to implement measures to protect and maintain the long-term viability of the M&T Chico Ranch/Llano Seco Rancho fish screen and pumping facility, located at approximately River Mile 192.5 on the Sacramento River. Implementation of these measures is intended to comply with CDFW and National Marine Fisheries Service water diversion fish screen criteria and ensure water supply and delivery responsibilities to farmland and Federal and State wildlife areas. These areas include the eastern portion of the Llano Seco Rancho, which is under conservation easement and is served by the M&T/Llano Seco pumping facilities. The facilities provide water from the Sacramento River to wetlands and associated habitats owned or managed by the Service, CDFW, and Llano Seco Rancho, which create wetland habitat for resident and migratory waterfowl, shorebirds, and other wetland dependent and special-status species.

Study Area

The existing pumping facilities are located in Butte County on the eastern bank of the Sacramento River, just downstream of the confluence of Big Chico Creek and the Sacramento River at River Mile 192.5. The rock toe revetment is located across from the existing facilities in Glenn County on the west bank of the Sacramento River. It is located on the Capay Unit of the Sacramento River National Wildlife Refuge and on the adjoining fee-title property owned by Reclamation District 2140 immediately south of the Capay Unit. The Llano Seco Unit of this wildlife refuge is located approximately 7 miles south of the existing facilities on the eastern side of the Sacramento River; it receives its water supply from the existing pumping facilities.

Alternatives

Beginning in 2003, an expert panel of engineers and hydrologists met with stakeholders to develop and assess alternatives for a long-term solution that would provide a reliable water supply for agriculture lands and the wildlife refuges, and protect endangered species and their habitats in the Sacramento River. The panel's assessment was presented in six different workshops between 2003 and 2011, and their work identified a number of technically viable long-term solution alternatives.

We will consider a range of alternatives and their impacts in the EIS/EIR, including the No Action Alternative. The Service will consider the proposed action, which is the development of a long-term strategy for dredging sediment from the river upstream of the existing pumping facilities and maintaining the rock-toe revetment that exists on the west bank of the river. Based on previous planning studies, we will analyze the following alternatives to the proposed action in the EIS/EIR: (1) The installation of nine spur dikes along the west bank of the channel to protect the bank from erosive forces, redirect velocities of water into the central area of the channel, and prevent downstream migration of the gravel bar; (2) development of a strategic plan for long-term dredging upstream of the existing facilities, retention of the existing rock toe revetment, and modification of the existing diversion structure to include cone fish screens; (3) relocation of the pumping/fish screen facilities 2,200 feet downstream on the east bank of the river and retention of the existing rock toe revetment; (4) relocation of the pumping/fish screen facilities 3,600 feet downstream on the east bank of the river and retention of the existing rock toe revetment; (5) relocation of the M&T pumps and intake to the west bank of the Sacramento River; (6) implementation of the two short-term dredging actions upstream of the existing facilities that have already received approvals from State and Federal regulatory agencies and retention of the rock toe revetment; and (7) the no action alternative, with implementation of the two short-term dredging actions and with the removal of the rock toe revetment. The EIS/EIR will include a detailed analysis of the impacts of the proposed action and alternatives. Alternatives 1-6 would include mitigation for the long-term placement of the rock toe revetment on the west side of the Sacramento River that exists under baseline conditions.

The EIS/EIR will identify and analyze potentially significant direct, indirect, and cumulative impacts of the alternatives on agricultural resources, air quality, biological resources, climate change/greenhouse gas emissions, cultural resources, geology/soils/mineral resources, hazards/hazardous materials, water resources/hydrology/water quality, land use/planning, noise, population/housing, public services, recreation/open space, socioeconomics, environmental justice, traffic/transportation, utilities/service systems, and visual resources. The EIS/EIR will also identify mitigation measures for adverse environmental effects.

Required Permits

The agencies that will be involved in the permitting process for this action will be dependent on the alternative action pursued. Table 1 indicates our understanding of the regulatory agencies relevant to each alternative action.

The public scoping meetings and public comment period are intended to identify the full range of alternative actions and environmental issues relating to the proposed project and any additional permits or agency approvals required as a result.

BILLING CODE 4310-55-P

BILLING CODE 4310-55-C

Public Comment

We are furnishing this notice in accordance with section 1501.7 of the NEPA implementing regulations in order to obtain suggestions and information from other agencies and the public on the scope of issues to be addressed in the EIS/EIR. We invite written comments from interested parties to ensure identification of the full range of issues.

We request data, comments, new information, or suggestions from the public, other concerned governmental agencies, the scientific community, Tribes, industry, or any other interested party on this notice.

Written comments we receive become part of the public record associated with this action. Before including your address, phone number, email address, or other personal identifying information in your comment, you should be aware that the entire comment, including your personal identifying information, may be made publicly available at any time. While you can ask us in your comment to withhold your personal identifying information from public review, we cannot guarantee that we will be able to do so.

Public Scoping Meetings

In addition to providing written comments, the public is encouraged to attend a public scoping meeting to provide us with suggestions and information on the scope of issues and alternatives to consider when drafting the EIS/EIR. See DATES for the dates and times of our public meetings.

The primary purpose of these meetings and public comment period is to solicit suggestions and information on the scope of issues and alternatives for the Service to consider when drafting the EIS/EIR. Written comments will be accepted at the meetings. Comments can also be submitted by methods listed in the ADDRESSES section. Once the draft EIS/EIR is complete and made available for review, there will be additional opportunity for public comment on the content of these documents.

Persons needing reasonable accommodations in order to attend and participate in the public meetings should contact us at the address listed in the ADDRESSES section no later than one week before the public meeting. Information regarding this proposed action is available in alternative formats upon request. We will accept both oral and written comments at the scoping meetings.

NEPA Compliance

We intend to gather information necessary for preparation of the EIS/EIR through this notice and the scoping process.

We will conduct environmental review in accordance with the requirements of NEPA, as amended (42 U.S.C. 4321 et seq.), its implementing regulations (40 CFR parts 1500-1508), other applicable regulations, and our procedures for compliance with those regulations. The environmental document will be prepared to meet both the requirements of NEPA and the California Environmental Quality Act (CEQA). The CDFW is the CEQA lead agency. We anticipate that a draft EIS/EIR will be available for public review in the spring of 2017.

Alexandra Pitts,
Acting Regional Director, Pacific Southwest Region.

[FR Doc. 2016-16543 Filed 7-12-16; 8:45 am]

BILLING CODE 4310-55-P